DEPARTMENT OF THE INTERIOR

Bureau of Land Management

[CA-067-1050-ET, CACA 39853]

Public Land Order No. 7469; Withdrawal of Public Land for the Indian Pass Area; California

AGENCY: Bureau of Land Management, Interior.

ACTION: Public Land Order.

SUMMARY: This order withdraws 9,360.74 acres of public land from surface entry and mining for a period of 20 years for the Bureau of Land Management to protect the Native American values, cultural resources, and visual quality of the Indian Pass area.

EFFECTIVE DATE: October 27, 2000.

FOR FURTHER INFORMATION CONTACT: Duane Marti, BLM, California State Office, 2800 Cottage Way, Sacramento, California 95825-1887, 916-978-4675.

By virtue of the authority vested in the Secretary of the Interior by Section 204 of the Federal Land Policy and Management Act of 1976, 43 U.S.C. 1714 (1994), it is ordered as follows:

1. Subject to valid existing rights, the following described public land is hereby withdrawn from settlement, sale, location, or entry under the general land laws, including the United States mining laws (30 U.S.C. Ch. 2 (1994)), for the Bureau of Land Management to protect the Native American values, cultural resources, and visual quality of the Indian Pass area:

San Bernardino Meridian

T. 13 S., R. 20 E.,

Sec. 25, E½.

T. 13 S., R. 21 E.,

Sec. 21, NE¼, E½NW¼, and SW¼;

Sec. 28, NW¼ and NW¼SW¼;

Secs. 29 to 33, inclusive.

T. 14 S., R. 20 E.,

Sec. 1, E½;

Sec. 11, E½;

Secs. 12 to 14, inclusive.

T. 14 S., R. 21 E.,

Sec. 4, lots 1 and 2 of NW¼ and NW¼SW¼;

Sec. 5, lots 1 and 2 of NE¼, lots 1 and 2 of NW¼, and S½;

Sec. 6, lots 1 and 2 of NE¼, lots 1 and 2 of NW¼, lots 1 and 2 of SW¼, and SE¼;

Sec. 7, lots 1 and 2 of NW¼, lots 1 and 2 of SW¼, and E½;

Sec. 8, N½NE¼ and W½;

Sec. 17, NW¼NW¼;

Sec. 18, lots 1 and 2 of NW¼ and NE¼.

The area described contains 9,360.74 acres in Imperial County.

2. This withdrawal will expire 20 years from the effective date of this order unless, as a result of a review conducted before the expiration date pursuant to Section 204(f) of the Federal Land Policy and Management Act of 1976, 43 U.S.C. 1714(f) (1994), the Secretary determines that the withdrawal shall be extended.

Dated: October 20, 2000.
Sylvia V. Baca,
Assistant Secretary of the Interior.

[FR Doc. 00-27625 Filed 10-26-00; 8:45 am]

BILLING CODE 4310-40-P